DEPARTMENT OF ENERGY

Federal Energy Regulatory Commission

[Docket No. RP00-506-002]

Northwest Pipeline Corporation; Notice of Compliance Filing

October 13, 2000.

Take notice that on October 6, 2000, Northwest Pipeline Corporation (Northwest) submitted supplemental information in support of its partial capacity turnback proposal in this proceeding.

Northwest states that the purpose of this filing is to comply with the Commission's Order, dated September 22, 2000, which directed Northwest to file such supplemental information.

Northwest states that it has served a copy of this compliance filing upon each person designated on the official service list compiled by the Secretary in this proceeding.

Any person desiring to protest said filing should file a protest with the Federal Energy Commission, 888 First Street, NE, Washington, DC 20426, in accordance with section 385.211 of the Commission's Rules and Regulations. All such protests must be filed on or before October 20, 2000. Protests will be considered by the Commission in determining the appropriate action to be taken, but will not serve to make protestants parties to the proceedings. Copies of this filing are on file with the Commission and are available for public inspection in the Public Reference Room. This filing may be viewed on the web at http://www.ferc.fed.us/online.rims.htm (call 202-208-2222 for assistance).

Linwood A. Watson, Jr.,
Acting Secretary.

[FR Doc. 00-26833 Filed 10-18-00; 8:45 am]

BILLING CODE 6717-01-M